DEPARTMENT OF THE INTERIOR

Bureau of Land Management

[LLNVC02000 LF2200000.JS0000.LFESGA1D0000; 12-08807; MO #4500031135; TAS: 14X1125]

Notice of Temporary Restriction of Vehicle Use and Closure to Tree Cutting and Wood Harvesting on Public Land in Douglas County, NV

AGENCY: Bureau of Land Management, Interior.

ACTION: Notice.

SUMMARY: The Bureau of Land Management (BLM), as authorized under the provisions of the Federal Land Policy and Management Act of 1976 and pursuant to BLM regulations, is temporarily restricting travel by motorized vehicles to existing posted roads and two-track trails and issuing a temporary closure to wood harvesting and/or tree cutting on public land within the Ray May Fire burn area located south of Gardnerville, Nevada, in the Pine Nut Mountains east of U.S. Highway 395 in Douglas County, Nevada.

DATES: Effective Dates: The temporary restriction and closure of the described public use will be in effect from May 1, 2012 to August 1, 2014.

FOR FURTHER INFORMATION CONTACT: Ryan Elliott, fire planner, 775-885-6167, email: r1elliot@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to 43 CFR 8364.1, restriction of cross-country vehicle travel and closure to tree cutting and wood collecting on a portion of the area burned by the Ray May Fire in August 2011 is necessary to promote successful rehabilitation of the area.

The area is on public land on the west side of the Pine Nut Mountains. The affected public lands are described as follows:

Mount Diablo Meridian

T. 11 N., R. 21 E.

Sec. 1, SW¼, SW¼SE¼;

Sec. 3, Lot 4, SW¼NW¼, W½SW¼, SE¼SW¼, SW¼SE¼;

Sec. 4, Lots 21-24, S½NW¼, NE¼SW¼, SE¼;

Sec. 9, NE¼NE¼;

Sec. 10, NW¼NE¼, N½NW¼;

Sec. 12, NW¼NE¼, N½NW¼.

T. 12 N., R. 21 E.

Sec. 26, SE¼SW¼, S½SE¼;

Sec. 34, W½SW¼, SE¼SW¼;

Sec. 35, E½, N½NW¼, SW¼NW¼, N½SW¼, SW¼SW¼;

Sec. 36, NW¼NW¼, S½NW¼, SW¼, SW¼SE¼.

The area described contains 2,267.91 acres, more or less, in Douglas County.

This temporary restriction and closure order will be posted at the Carson City District Office, 5665 Morgan Mill Road, Carson City, Nevada. Maps of the closure area are also available at the Carson City District Office.

On November 23, 2011, the BLM signed a Decision Record for the Ray May Fire Emergency Action, Temporary Closures Environmental Assessment (EA) to implement these restrictions and closure. The EA analyzed these actions and is available to the public on the District Web site at http://www.blm.gov/nv/st/en/fo/carson_city_field.html. Restricting vehicle use to posted roads and two-track trails and closing the area to wood collecting and wood cutting will improve post-fire recovery and rehabilitation of the Ray May Fire burn area as outlined in the 2011 Post-Fire Recovery Plan, Emergency Stabilization and Burned Area Rehabilitation Plan for Ray May Fire. To meet the goals of the rehabilitation plan, restrictions and closures need to be in effect for at least 3 growing seasons, ensuring sufficient regrowth of perennial plants and adequate stabilization of soils.

Motorized vehicle use within the burn area will be restricted to existing posted roads and two-track trails. The BLM will post roads and two-track trails open to use during this period. This restriction applies to all motorized vehicles, excluding:

(1) Any emergency or law enforcement vehicle while being used for emergency or administrative purposes; and

(2) Any vehicle whose use is expressly authorized in writing by the manager, Sierra Front Field Office.

Closing the area to wood harvesting and/or tree cutting is necessary because the BLM uses the burned trees to create erosion breaks. This restriction applies to all persons excluding:

(1) BLM personnel; and

(2) Any person who is expressly authorized in writing by the manager, Sierra Front Field Office.

If satisfactory rehabilitation is achieved prior to August 1, 2014, the restriction will be lifted. If the rehabilitation has not met the established benchmarks for success in the Ray May Fire Rehabilitation Plan by August 1, 2014, the BLM will consider reissuing the restriction order.

Penalties: Any person who fails to comply with the restriction order is subject to arrest and, upon conviction, may be fined not more than $1,000 and/or imprisonment for not more than 12 months.

Authority: 43 CFR 8364.1.

Christopher J. McAlear,
District Manager, Carson City District Office.

[FR Doc. 2012-10424 Filed 4-30-12; 8:45 am]

BILLING CODE 4310-HC-P